ENVIRONMENTAL PROTECTION AGENCY

[FRL-7974-8]

Acid Rain Program: Notice of Annual Adjustment Factors for Excess Emission Penalty

AGENCY: Environmental Protection Agency (EPA).

ACTION: Notice of annual adjustment factors for excess emissions penalty.

SUMMARY: Under the Acid Rain Program, affected units must hold enough allowances to cover their sulfur dioxide emissions and meet an emission limit for nitrogen oxides. Under 40 CFR 77.6, units that do not meet these requirements must pay a penalty without demand to the Administrator based on the number of excess tons emitted times $2000 as adjusted by an annual adjustment factor that must be published in the Federal Register.

The annual adjustment factor for adjusting the penalty for excess emissions of sulfur dioxide and nitrogen oxides under 40 CFR part 77 for compliance year 2005 is 1.5209. This value is derived using the Consumer Price Index (“CPI”) for 1990 and 2005 (as defined at 40 CFR part 72, the 2005 CPI is based on the August 2004 CPI for all urban consumers), and corresponds to a penalty of $3042 per excess ton of sulfur dioxide or nitrogen oxides emitted.

The annual adjustment factor for adjusting the penalty for excess emissions of sulfur dioxide and nitrogen oxides under 40 CFR part 77 for compliance year 2006 is 1.5762. This value is derived using the Consumer Price Index (“CPI”) for 1990 and 2006 (as defined at 40 CFR part 72, the 2006 CPI is based on the August 2005 CPI for all urban consumers), and corresponds to a penalty of $3152 per excess ton of sulfur dioxide or nitrogen oxides emitted.

FOR FURTHER INFORMATION CONTACT: Robert Miller, Clean Air Markets Division (6204J), U.S. Environmental Protection Agency, 1200 Pennsylvania Ave., NW., Washington, DC 20460 at (202) 343-9077.

Dated: September 20, 2005.
Sam Napolitano,
Director, Clean Air Markets Division, Office of Atmospheric Programs, Office of Air and Radiation.

[FR Doc. 05-19258 Filed 9-26-05; 8:45 am]

BILLING CODE 6560-50-P